DEPARTMENT OF LABOR

Mine Safety and Health Administration

[OMB Control No. 1219-0066]

Proposed Extension of Existing Information Collection; Testing, Evaluation, and Approval of Mining Products

AGENCY: Mine Safety and Health Administration.

ACTION: Notice of request for public comments.

SUMMARY: The Department of Labor, as part of its continuing effort to reduce paperwork and respondent burden, conducts a pre-clearance consultation program to provide the general public and Federal agencies with an opportunity to comment on proposed and continuing collections of information in accordance with the Paperwork Reduction Act of 1995 [44 U.S.C. 3506(c)(2)(A)]. This program helps to ensure that requested data can be provided in the desired format, reporting burden (time and financial resources) is minimized, collection instruments are clearly understood, and the impact of collection requirements on respondents can be properly assessed. Currently, the Mine Safety and Health Administration (MSHA) is soliciting comments concerning the extension of the information collection for 30 CFR Parts 6 through 36.

DATES: All comments must be postmarked or received by midnight Eastern Daylight Saving Time on June 28, 2011.

ADDRESSES: Comments must be clearly identified with OMB Control No. 1219-0066 in the subject line of the message and may be submitted to MSHA by any of the following methods:

(1) Electronic mail: zzMSHA-Comments@dol.gov.

(2) Facsimile: 202-693-9441.

(3) Regular Mail: MSHA, Office of Standards, Regulations, and Variances, 1100 Wilson Boulevard, Room 2350, Arlington, VA 22209-3939.

(4) Hand Delivery or Courier: MSHA, Office of Standards, Regulations, and Variances, 1100 Wilson Boulevard, Room 2350, Arlington, VA 22209-3939. Sign in at the receptionist's desk on the 21st floor.

FOR FURTHER INFORMATION CONTACT: Mario Distasio, Chief of the Economic Analysis Division, Office of Standards, Regulations, and Variances, MSHA, at distasio.mario@dol.gov (e-mail), 202-693-9445 (voice mail), 202-693-9441 (facsimile).

SUPPLEMENTARY INFORMATION:

I. Background

The Mine Safety and Health Administration (MSHA) is responsible for the inspection, testing, approval and certification, and quality control of mining equipment and components, materials, instruments, and explosives used in both underground and surface coal, metal, and nonmetal mines. Title 30, Code of Federal Regulations (CFR), parts 6 through 36 contain procedures by which manufacturers may apply for and have equipment approved as “permissible” for use in mines.

II. Desired Focus of Comments

MSHA is particularly interested in comments that:

• Evaluate whether the collection of information is necessary for the proper performance of the functions of the agency, including whether the information has practical utility;

• Evaluate the accuracy of the agency's estimate of the burden of the collection of information, including the validity of the methodology and assumptions used;

• Enhance the quality, utility, and clarity of the information to be collected; and

• Minimize the burden of the collection of information on those who are to respond, including the use of appropriate automated, electronic, mechanical, or other technological collection techniques or other forms of information technology, e.g., permitting electronic submissions of responses.

A copy of the documents supporting this information collection request can be obtained by contacting the person listed in the FOR FURTHER INFORMATION CONTACT section of this notice, or viewed on the Internet at http://www.msha.gov. To view the documents on MSHA's Web site: select “Rules & Regs” on the right side of the screen; then select “FR Docs”; and under “Information Collection Requests” on the next screen, select “Paperwork Reduction Act Supporting Statements.”

III. Current Actions

This notice contains the request for an extension of the existing collection of information in 30 CFR Parts 6 through 36. Parts 6 through 36 require that an investigation leading to approval or certification will be undertaken by the A&CC at the MSHA only pursuant to a written application accompanied by prescribed drawings and specifications identifying the piece of equipment. This information is used by engineers and scientists to evaluate the design in conjunction with tests to assure conformance to standards prior to approval for use in mines.

Type of Review: Extension.

Agency: Mine Safety and Health Administration.

OMB Number: 1219-0066.

Frequency: Frequently.

Affected Public: Business or other for-profit.

Cost to Federal Government: $56,476.

Total Number of Respondents: 257.

Total Number of Responses: 754.

Total Burden Hours: 4,441 hours.

Total Burden Cost (operating/maintaining): $2,780,708.

Comments submitted in response to this notice will be summarized and included in the request for Office of Management and Budget approval of the information collection request; they will also become a matter of public record.

Dated: April 25, 2011.
Patricia W. Silvey,
Certifying Officer.

[FR Doc. 2011-10360 Filed 4-28-11; 8:45 am]

BILLING CODE 4510-43-P